GENERAL SERVICES ADMINISTRATION

[OMB Control No. 3090-0014]

Submission for OMB Review; Comment Request Entitled Transfer Order-Surplus Personal Property and Continuation Sheet

AGENCY: Federal Supply Service, GSA.

ACTION: Notice of a request for an extension to an existing OMB clearance (3090-0014).

SUMMARY: Under the provisions of the Paperwork Reduction Act of 1995 (44 U.S.C. Chapter 35), the General Services Administration (GSA) has submitted to the Office of Management and Budget (OMB) a request to review and approve an extension of a currently approved information collection requirement concerning Transfer Order-Surplus Personal Property and Continuation Sheet.

DATES: Comments may be submitted on or before October 22, 2001.

FOR FURTHER INFORMATION CONTACT: Denise Thomas, Federal Supply Services, GSA (703) 308-0742.

ADDRESSES: Comments regarding this burden estimate or any other aspect of this collection of information, including suggestions for reducing this burden, should be submitted to: Edward Springer, GSA Desk Officer, OMB, Room 10236, NEOB, Washington, DC 20503, and a copy to Stephanie Morris, General Services Administration (MVP), 1800 F Street, NW., Room 4035, Washington, DC 20405.

SUPPLEMENTARY INFORMATION:

A. Purpose

The General Services Administration is requesting the Office of Management and Budget (OMB) to review and approve information collection, 3090-0014, concerning Transfer Order-Surplus Personal Property and Continuation Sheet. This form is used by public agencies, nonprofit educational or public health activities, programs for the elderly, service educational activities, and public airports to apply for donation of Federal surplus personal property. The SF 123 serves as the transfer instrument and includes item descriptions, transportation instructions, nondiscrimination assurances, and approval signatures.

B. Annual Reporting Burden

Respondents: 63,000.

Annual Responses: 63,000.

Burden Hours: 18,900.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0014, Transfer Order-Surplus Personal Property and Continuation Sheet, in all correspondence.

Dated: August 13, 2001.
David A. Drabkin,
Deputy Associate Administrator, Office of Acquisition Policy.

[FR Doc. 01-21065 Filed 8-20-01; 8:45 am]

BILLING CODE 6820-61-P